DEPARTMENT OF THE INTERIOR

Office of the Secretary

Meeting of Advisory Committee to the Interagency Task Force To Improve Hydroelectric Licensing Processes

AGENCY: Office of the Secretary, Interior.

ACTION: Notice of meeting.

SUMMARY: In accordance with the Federal Advisory Committee Act, this notice advises interested persons that the Advisory Committee to the Interagency Task Force To Improve Hydroelectric Licensing Processes will meet on June 8, 2000, at the National Marine Fisheries Service. The purpose of the meeting is to:

• Update Committee members on the current activities of the Interagency Task Force (ITF); and to

• Review and discuss the ITF Working Group's draft product on improving the conservation of the Endangered Species Act Section 7 consultation with the Federal Energy and Regulatory Commission's licensing process.

DATES: The meeting will be held June 8, 2000; 9:00am-3pm.

ADDRESSES: National Marine Fisheries Service, Building SSMC3, 4th Floor Conference Room, 4527, 1315 East-West Highway, Silver Spring, MD 20910.

FOR FURTHER INFORMATION CONTACT: Kimberly St. Bernard, Secretary to the Director, Office of Habitat Conservation (OHC), (301) 713-2325.

SUPPLEMENTARY INFORMATION: The Secretary of the Interior and the Chairman, Federal Energy Regulatory Commission, with the concurrence of ITF members, established the Advisory Committee to provide a forum for non-Federal entities to review and provide comments on the deliberations of the ITF. Interested parties are invited to attend the meeting and will be given an opportunity to provide comments.

Less than 15 days' notice of this meeting is being given because of recently resolved administrative matters. In light of the difficulty of making changes to travel plans and schedules and the expenses such changes would entail, it is necessary to hold this meeting on June 8, 2000, as originally planned.

You should inform Security on the building lobby level that you are attending a meeting hosted by the OHC, (301) 713-2325. After calling OHC, Security will issue you a visitor's pass and direct you to the 4th Floor Conference Room, 4527.

Dated: May 31, 2000.
Alex Matthiessen,
Special Assistant to the Designated Federal Officer.

[FR Doc. 00-14092 Filed 6-1-00; 11:32 am]

BILLING CODE 4310-10-U